DEPARTMENT OF TRANSPORTATION

Coast Guard

33 CFR Part 117

[CGD08-00-003]

Drawbridge Operating Regulation; Pass Manchac, LA

AGENCY: Coast Guard, DOT.

ACTION: Notice of temporary deviation from regulations.

SUMMARY: The Commander, Eighth Coast Guard District, has issued a temporary deviation from the regulation governing the operation of the Illinois Central Railroad automated bridge, mile 6.7, at Manchac, Tangipahoa and St. John Parishes, Louisiana. This deviation allows the Canadian National/Illinois Central Railroad to close the bridge to navigation continuously from noon on Wednesday, April 12, 2000 until 8 p.m. on Thursday, April 13, 2000. This temporary deviation was issued to allow for the replacement of an electrical cable and to accomplish other general maintenance. Presently, the draw is maintained in the open position and closes for the passage of trains.

DATES: This deviation is effective from noon on Wednesday, April 12, 2000 through 8 p.m. on Thursday, April 13, 2000.

ADDRESSES: Unless otherwise indicated, documents referred to in this notice are available for inspection or copying at the office of the Eighth Coast Guard District, Bridge Administration Branch, Commander (ob), Eighth Coast Guard District, 501 Magazine Street, New Orleans, Louisiana 70130-3396. The Bridge Administration Branch of the Eighth Coast Guard District maintains the public docket for this temporary deviation.

FOR FURTHER INFORMATION CONTACT: David Frank, Bridge Administration Branch, telephone (504) 589-2965.

SUPPLEMENTARY INFORMATION: The Illinois Central Railroad automated bridge across Pass Manchac, mile 6.7, at Manchac, has a vertical clearance of one foot above mean high water in the closed-to-navigation position and 56 feet above mean high water in the open-to-navigation position. Navigation on the waterway consists of tugs with tows, fishing vessels, sailing vessels, and other recreational craft. The Canadian National/Illinois Central Railroad requested a temporary deviation from the normal operation of the drawbridge in order to accommodate the maintenance work, involving replacement of an underground electrical cable and other general maintenance work.

This deviation allows the draw of the Illinois Central Railroad automated bridge across Pass Manchac, mile 6.7, at Manchac, Tangipahoa and St. John Parishes, Louisiana to remain closed to navigation continuously from noon on Wednesday, April 12, 2000, until 8 p.m. on Thursday, April 13, 2000.

Dated: March 15, 2000.
K.J. Eldridge,
Capt, USCG, Acting District Commander, Eighth CG District.

[FR Doc. 00-7644 Filed 3-28-00; 8:45 am]

BILLING CODE 4910-15-P